DEPARTMENT OF AGRICULTURE

Natural Resources Conservation Service

[Docket No. NRCS-2018-0002]

Lick Creek Watershed, Russell, Dickenson and Wise Counties, Virginia

AGENCY: Natural Resources Conservation Service, USDA.

ACTION: Notice of intent to deauthorize federal funding.

SUMMARY: Pursuant to the Watershed Protection and Flood Prevention Act of 1954 and the Natural Resources Conservation Service (NRCS) Guidelines, NRCS gives notice of the intent to deauthorize Federal funding for the Lick Creek Watershed project, Russell, Dickenson and Wise Counties, Virginia.

DATES: Interested persons are invited to submit comments within 60 days of this notice being published in the Federal Register.

ADDRESSES: Comments submitted in response to this notice should be sent to John Bricker, VA State Conservationist, 1606 Santa Rosa Road, Suite 209, Richmond, Virginia 23229. Telephone: (804) 287-1691 or email: Jack.Bricker@va.usda.gov.

FOR FURTHER INFORMATION CONTACT: For specific questions about this notice, please contact Wade Biddix, (804) 287-1675 or Wade.Biddix@va.usda.gov.

SUPPLEMENTARY INFORMATION: A determination has been made by John Bricker, NRCS State Conservationist in Virginia that the proposed works of improvement for the Lick Creek Watershed project will not be installed. The sponsoring local organizations have concurred in this determination and agree that Federal funding should be deauthorized for the project. Information regarding this determination may be obtained from John Bricker, NRCS State Conservationist in Virginia at the above address and telephone number.

No administrative action on implementation of the proposed deauthorization will be taken until 60 days after the date of this publication in the Federal Register.

[Catalog of Federal Domestic Assistance Program No. 10.904, Watershed Protection and Flood Prevention. Executive Order 12372 regarding State and local clearinghouse review of Federal and federally assisted programs and project is applicable]

Dated: March 1, 2018.
John A. Bricker,
VA State Conservationist.

[FR Doc. 2018-09677 Filed 5-7-18; 8:45 am]

BILLING CODE 3410-16-P